DEPARTMENT OF DEFENSE

Office of the Secretary

Defense Business Board; Notice of Federal Advisory Committee Meeting

AGENCY: Office of the Deputy Secretary of Defense, Department of Defense (DoD).

ACTION: Notice of Federal Advisory Committee meeting.

SUMMARY: The DoD is publishing this notice to announce that the following Federal Advisory Committee meeting of the Defense Business Board (“the Board”) will take place.

DATES: Open to the public Tuesday, August 9, 2022 from 2:10 p.m. to 4:00 p.m. Closed to the public Tuesday, August 9, 2022 from 9:45 a.m. to 11:00 a.m. and from 6:00 p.m. to 7:30 p.m. Closed to the public Wednesday, August 10, 2022 from 9:05 a.m. to 11:35 a.m. and from 1:00 p.m. to 3:10 p.m. All Eastern time.

ADDRESSES: The open and closed portions of the meeting will be in Rooms 4D880 and 1E840 in the Pentagon, Washington DC. Due to the current guidance on combating the Coronavirus, the public portions of the meeting will be conducted by teleconference only. To participate in the open portion of the meeting, see the Meeting Accessibility section for instructions.

FOR FURTHER INFORMATION CONTACT: Ms. Jennifer Hill, Designated Federal Officer of the Board in writing at Defense Business Board, 1155 Defense Pentagon, Room 5B1088A, Washington, DC 20301-1155; or by email at jennifer.s.hill4.civ@mail.mil; or by phone at 571-342-0070.

SUPPLEMENTARY INFORMATION: This meeting is being held under the provisions of the Federal Advisory Committee Act (FACA) (5 U.S.C.), the Government in the Sunshine Act (5 U.S.C. 552b), and 41 CFR 102-3.140 and 102-3.150. Due to circumstances beyond the control of the Department of Defense and the Designated Federal Officer for the Board, the DoD was unable to provide public notification required by 41 CFR 102-3.150(a) concerning its August 9-10, 2022 meeting. Accordingly, the Advisory Committee Management Officer for the Department of Defense, pursuant to 41 CFR 102-3.150(b), waives the 15-calendar day notification requirement.

Purpose of the Meeting: The mission of the Board is to examine and advise the Secretary of Defense on overall DoD management and governance. The Board provides independent, strategic-level, private sector and academic advice and counsel on enterprise-wide business management approaches and best practices for business operations and achieving National Defense goals.

Agenda: The Board meeting will begin in closed session on August 9, 2022 from 9:45 a.m. to 11:00 a.m. Eastern time with opening remarks by Ms. Jennifer Hill, the Designated Federal Officer and Chair's opening remarks by Hon. Debbie James. Next, will be a classified overview of the National Defense Strategy by Hon. Colin Kahl, Under Secretary of Defense for Policy. The Designated Federal Officer will then adjourn the closed session. The Board will reconvene in an open session from 2:10 p.m. to 4:00 p.m. The Designated Federal Officer will open the public session. The Board will then receive an update on the Mentor Protégé Program and DBB recommendations by Mr. Farooq Mitha, Director of the Department of Defense Office of Small Business Programs. Hon. William LaPlante, Under Secretary of Defense for Acquisition and Sustainment will follow with an update on DoD Supply Chain and Acquisition: Issues and Initiatives. After Hon. LaPlante's discussion, the Designated Federal Officer will adjourn the open session. The Board will conduct a closed session from 6:00 p.m. to 7:30 p.m. Eastern time. The Designated Federal Officer will open the closed session followed by the Chair's welcome. The Board will then receive a classified briefing on Air Force acquisition issues and initiatives with respect to the supply chain and beyond from Hon. Frank Kendall, Secretary of the Air Force. At the conclusion of Hon. Kendall's briefing, the Designated Federal Officer will adjourn the closed session. The Board will reconvene in closed session on August 10, 2022 at 9:00 a.m. Eastern time with opening remarks by Ms. Jennifer Hill, the Designated Federal Officer. The Board will then receive classified remarks on current events in Ukraine and discuss cultivating innovation with Hon. Kathleen Hicks, Deputy Secretary of Defense, with a potential visit by Secretary Lloyd Austin. Next, will be a classified briefing from Ms. Margie Palmieri, Deputy Chief Digital and Artificial Intelligence Officer on strategy and initiatives for this recently created office, along with follow up to the Board's Executive Analytics Study. The Board will then receive a classified briefing from Adm. Christopher W. Grady (USN), Vice Chairman of the Joint Chiefs of Staff, on what the Department has learned from Ukraine to inform future missions, followed by an update by Gen. John W. “Jay” Raymond, Chief of Space Operations, Space Force, on what Space Force is doing to spur innovation and develop risk tolerance. The Designated Federal Officer will then adjourn the closed session. The latest version of the agenda will be available on the Board's website at: https://dbb.defense.gov/Meetings/Meeting-August10-2022/.

Meeting Accessibility: In accordance with Section 10(d) of the FACA and 41 CFR 102-3.155, it is hereby determined that portions of the August 9-10, 2022 meeting of the Board will include classified information and other matters covered by 5 U.S.C. 552b(c)(1) and that, accordingly, the meeting will be closed to the public on August 9, 2022 from 9:45 a.m. to 11:00 a.m. and from 6:00 p.m. to 7:30 p.m. and on August 10, 2022 from 9:05 a.m. to 11:35 a.m. and from 1:00 p.m. to 3:10 p.m. This determination is based on the consideration that it is expected that discussions throughout these periods will involve classified matters of national security. Such classified material is so intertwined with the unclassified material that it cannot reasonably be segregated into separate discussions without defeating the effectiveness and meaning of these portions of the meeting. To permit these portions of the meeting to be open to the public would preclude discussion of such matters and would greatly diminish the ultimate utility of the Board's findings and recommendations to the Secretary of Defense and to the Deputy Secretary of Defense. Pursuant to section 10(a)(1) of the FACA and 41 CFR 102-3.140, the portion of the meeting on August 9, 2022 from 2:10 p.m. to 4:00 p.m. is open to the public. Persons desiring to attend the public session are required to register. To attend the public session submit your name, affiliation/organization, telephone number, and email contact information to the Board at osd.pentagon.odam.mbx.defense-business-board@mail.mil. Requests to attend the public session must be received no later than 12:00 p.m. on Monday, August 8, 2022. Upon receipt of this information, the Board will provide further instructions for telephonically attending the meeting.

Written Comments and Statements: Pursuant to 41 CFR 102-3.105(j) and 102-3.140 and section 10(a)(3) of the FACA, the public or interested organizations may submit written comments or statements to the Board in response to the stated agenda of the meeting or in regard to the Board's mission in general. Written comments or statements should be submitted to Ms. Jennifer Hill, the Designated Federal Officer, via electronic mail (the preferred mode of submission) at the address listed in the FOR FURTHER INFORMATION CONTACT section. Each page of the comment or statement must include the author's name, title or affiliation, address, and daytime phone number. The Designated Federal Officer must receive written comments or statements being submitted in response to the agenda set forth in this notice by Monday, August 8, 2022 to be considered by the Board. The Designated Federal Officer will review all timely submitted written comments or statements with the Board Chair, and ensure the comments are provided to all members of the Board before the meeting. Written comments or statements received after this date may not be provided to the Board until its next scheduled meeting. Please note that all submitted comments and statements will be treated as public documents and will be made available for public inspection, including, but not limited to, being posted on the Board's website.

Dated: August 2, 2022.
Aaron T. Siegel,
Alternate OSD Federal Register Liaison Officer, Department of Defense.

[FR Doc. 2022-16876 Filed 8-5-22; 8:45 am]

BILLING CODE 5001-06-P